SECURITIES AND EXCHANGE COMMISSION

[SEC File No. 270-770, OMB Control No. 3235-0750]

Proposed Collection; Comment Request; Extension: Rule 18a-8

Upon Written Request, Copies Available From: Securities and Exchange Commission, Office of FOIA Services, 100 F Street NE, Washington, DC 20549-2736.

Notice is hereby given that pursuant to the Paperwork Reduction Act of 1995 (“PRA”) (44 U.S.C. 3501 et seq.), the Securities and Exchange Commission (“Commission”) is soliciting comments on the existing collection of information provided for in Rule 18a-8 (17 CFR 240.18a-8), under the Securities Exchange Act of 1934 (15 U.S.C. 78a et seq.). The Commission plans to submit this existing collection of information to the Office of Management and Budget (“OMB”) for extension and approval.

Exchange Act Rule 18a-8 (17 CFR 240.18a-8) specifies the circumstances under which stand-alone security-based swap dealers (“SBSDs”), stand-alone major security-based swap participants (“MSBSPs”), bank SBSDs, and bank MSBSPs must notify the Commission about their financial or operational condition, as well as the form that the notice must take.

The Commission estimates that the total hour burden under Rule 18a-8 is approximately 5 burden hours per year, and the total cost burden is approximately $0 per year. There has been no change in the estimated total hour and cost burdens since the last approval of this information collection.

Written comments are invited on: (a) Whether the proposed collection of information is necessary for the proper performance of the functions of the Commission, including whether the information shall have practical utility; (b) the accuracy of the Commission's estimates of the burden of the proposed collection of information; (c) ways to enhance the quality, utility, and clarity of the information collected; and (d) ways to minimize the burden of the collection of information on respondents, including through the use of automated collection techniques or other forms of information technology. Consideration will be given to comments and suggestions submitted by May 6, 2024.

An agency may not conduct or sponsor, and a person is not required to respond to, a collection of information unless it displays a currently valid OMB control number.

Please direct your written comments to: David Bottom, Director/Chief Information Officer, Securities and Exchange Commission, c/o John Pezzullo, 100 F Street NE, Washington, DC 20549, or send an email to: PRA_Mailbox@sec.gov.

Dated: February 29, 2024.
Sherry R. Haywood,
Assistant Secretary.

[FR Doc. 2024-04600 Filed 3-4-24; 8:45 am]

BILLING CODE 8011-01-P